DEPARTMENT OF DEFENSE

Office of the Secretary

[Transmittal No. 22-0J]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0J.

Dated: June 10, 2024.
Aaron T. Siegel,
Alternate OSD Federal Register Liaison Officer, Department of Defense.

BILLING CODE 6001-FR-P

BILLING CODE 6001-FR-C

Transmittal No. 22-0J

REPORT OF ENHANCEMENT OR UPGRADE OF SENSITIVITY OF TECHNOLOGY OR CAPABILITY (SEC. 36(B)(5)(C), AECA)

(i) Purchaser: Taipei Economic and Cultural Representative Office (TECRO) in the United States

(ii) Sec. 36(b)(1), AECA Transmittal No.: 20-69

Date: October 21, 2020

Military Department: Navy

Funding Source: National Funds

(iii) Description: On October 21, 2020, Congress was notified by Congressional certification transmittal number 20-69 of the possible sale, under Section 36(b)(l) of the Arms Export Control Act, of one hundred thirty-five (135) AGM-84H Standoff Land Attack Missile Expanded Response (SLAM-ER) Missiles; four (4) ATM-84H SLAM-ER Telemetry Missiles; and twelve (12) CATM-84H Captive Air Training Missiles (CATM). Also included are one hundred fifty-one (151) containers, spare and repair parts, support and test equipment, publications and technical documentation, personnel training and training equipment, U.S. Government and contractor representatives' technical assistance, engineering and logistics support services, and other related elements of logistics support. The estimated total cost was $1.008 billion. Major Defense Equipment (MDE) constituted $608 million of this total.

This transmittal reports increases in MDE value by $147 million to $755 million and non-MDE value by $145 million to $545 million. This will result in an overall total case value increase of $292 million to $1.3 billion.

(iv) Significance: Reassessment of recent market trends by the Original Equipment Manufacturer (OEM) has identified an increase in cost of parts from suppliers, ranging from 20% to 120% over the past 12 months. Global supply chain logistics issues are impacting Long-lead items and increasing volatility to pricing, as some sub-tier suppliers are refusing to bid and others are offering pricing that is only valid for very limited timeframes, resulting in the need to qualify new sources. The OEM has repriced the effort to account for these price increases to add to the stability of this effort. There is no change to sensitive equipment or quantity/type of MDE previously notified.

(v) Justification: This proposed sale serves U.S. national, economic, and security interests by supporting the recipient's continuing efforts to modernize its armed forces and to maintain a credible defensive capability. The proposed sale will help improve the security of the recipient and assist in maintaining political stability, military balance, and economic progress in the region.

(vi) Sensitivity of Technology: The Sensitivity of Technology statement contained in the original notification applies to items reported here.

The highest level of classification of defense articles, components, and services included in this potential sale is CONFIDENTIAL.

(vii) Date Report Delivered to Congress: August 19, 2022

[FR Doc. 2024-12949 Filed 6-12-24; 8:45 am]

BILLING CODE 6001-FR-P